DEPARTMENT OF TRANSPORTATION

Federal Aviation Administration

Notice of Intent To Rule on Request To Release Airport Land at Nenana Airport, Nenana, AK

AGENCY: Federal Aviation Administration, Department of Transportation.

ACTION: Notice of Request to Release Airport Land.

SUMMARY: The Federal Aviation Administration (FAA) proposes to rule and invites public comment on the release of approximately 15.61 acres of airport property at Nenana Airport, Nenana, Alaska, from all restrictions of the surplus property agreement since the parcel of land is not needed for airport purposes. Reuse of the land for Alaska Rail Road track straightening represents a compatible land use. Sale of the property to the Alaska Rail Road at the appraised fair market value will be used to pay legal fees incurred during recent airport improvements. The property is not needed for airport purposes and reinvestment of the sale proceeds will benefit the airport and the interests of civil aviation.

DATES: November 5, 2008.

ADDRESSES: Comments on this application may be mailed or delivered in triplicate to the FAA at the following address: Federal Aviation Administration, Airports Division, Federal Register Comment, 222 West 7th Avenue #14, Anchorage, AK 99513. In addition, one copy of the comment submitted to the FAA must be mailed or delivered to Mr. Jason P. Maynard, Mayor/Administrator, Nenana Port Authority, City of Nenana, P.O. Box 70 Nenana, Alaska 99760.

FOR FURTHER INFORMATION CONTACT: Stephen W. Powell, Airports Compliance Officer, Federal Aviation Administration, Airports Division, 222 West 7th Avenue #14, Anchorage, AK 99513, telephone (907) 271-5448 and FAX (907) 271-2851. For airport-specific information regarding the release, contact Mr. Jason P. Maynard, Mayor/Administrator, at the above address or telephone (907) 832-5501.

SUPPLEMENTARY INFORMATION: In accordance with the Wendell H. Ford Aviation Investment and Reform Act for the 21st Century (AIR 21), Public Law 10-181 (Apr. 5, 2000; 114 Stat. 61), this notice must be published in the Federal Register 30 days before the Secretary may waive any condition imposed on a federally obligated airport by surplus property conveyance deeds.

The following is a brief overview of the request:

The City of Nenana, Alaska requested a release from surplus property agreement obligations, described in a Quit Claim Deed executed by the General Services Administration (GSA), recorded in Book Volume III Page 210 Nenana Recording District for approximately 15.61 acres of airport land. The property is only a portion of the Surplus Property granted and located on the North boundary of the airport. The land is presently unused, unimproved, and does not generate any income. Due to its location, the property cannot be used for airport purposes nor has it generated revenue for the airport. The release will allow the land to be sold to the Alaska Rail Road Corporation, Alaska to realign a section of railroad track that passes through the community of Nenana, Alaska. The property will be sold at the appraised market value and the sale proceeds will be used to pay off legal fees incurred in the latest airport improvement and development project. Reuse of the property to straighten tracks will be compatible with the airport and the reuse of the sale proceeds will benefit the airport, thereby serving the interests of civil aviation.

Issued in Anchorage, Alaska, on September 3, 2008.
James W. Lomen,
Deputy Division Manager, Airports Division, Alaska Region.

[FR Doc. E8-23563 Filed 10-3-08; 8:45 am]

BILLING CODE 4910-13-P